DEPARTMENT OF COMMERCE

National Oceanic and Atmospheric Administration

RIN 0648-XD262

Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary determination that an Exempted Fishing Permit application contains all of the required information and warrants further consideration. This Exempted Fishing Permit would allow seven Federal lobster vessels to participate in a lobster abundance study within the state and Federal waters off the coast of Massachusetts.

Regulations under the Magnuson-Stevens Fishery Conservation and Management Act require publication of this notification to provide interested parties the opportunity to comment on applications for proposed EFPs.

DATES: Comments must be received on or before June 2, 2014.

ADDRESSES: You may submit written comments by any of the following methods:

• Email: NMFS.GAR.EFP@noaa.gov. Include in the subject line “Comments on MA DMF Lobster Study EFP.”

• Mail: John K. Bullard, Regional Administrator, NMFS, Greater Atlantic Regional Fisheries Office, 55 Great Republic Drive, Gloucester, MA 01930. Mark the outside of the envelope “Comments on MA DMF Lobster Study EFP.”

• Fax: (978) 281-9135.

FOR FURTHER INFORMATION CONTACT: Maria Jacob, Environmental Technician, 978-281-9180, maria.jacob@noaa.gov.

SUPPLEMENTARY INFORMATION: Massachusetts Division of Marine Fisheries (MA DMF) submitted a complete application for an Exempted Fishing Permit (EFP) to conduct a lobster abundance survey with experimental lobster gear that the regulations would otherwise restrict. The EFP would authorize seven lobster vessels to set, haul, and retain on-board experimental lobster traps (closed escape vents) during sampling activity. Following a soak time ranging from 3 to 5 days, these lobster traps would be hauled twice per month on dedicated sampling days, with at least one scientist from MA DMF on-board during sampling activity. The proposed lobster sampling activity would take place during dedicated survey trips, and no traps in addition to the survey gear will be hauled, and all catch, including lobsters and bycatch species, will be discarded promptly after data collection is complete.

Funding for this lobster abundance survey will be provided by MA DMF. The purpose of this lobster study is to provide fishery-independent data on lobster abundance. Currently, lobster abundance and distribution studies are primarily conducted through fishery independent, random stratified bottom trawl surveys. MA DMF stated that these trawl surveys lack the capability to efficiently target areas with rocky bottom where lobsters also reside, and aims to use fixed lobster gear to sample areas not effectively sampled using a bottom trawl.

MA DMF requests exemption from lobster gear regulations to allow for closed escape vents in order to target all lobsters, including lobsters that do not satisfy Federal minimum size regulations for retention of lobster catch. The escape vent must remain closed in order to accurately quantify both juvenile and adult lobster abundance within the study area. MA DMF is also requesting exemptions from the lobster trap limit, in order to allow participating vessels to retain on board experimental lobster traps that would cause vessels to exceed the 800-trap limit for Lobster Management Areas (LMAs) 1 and 2. Federal lobster regulations also require a trap tag to be fixed to each active lobster trap; however, the survey traps will remain separate from each vessel's commercial fishing traps, and would be hauled during sampling trips only. Therefore, the survey traps would not be fixed with the conventional lobster trap tags. However, there would be an identification tag fixed to each survey trap for the duration of the study.

MA DMF is also requesting exemptions to allow one Federal lobster permit holder to be exempt from the management area designation requirements, to allow the permit holder to fish experimental traps in LMA 2 while having an LMA 3 on his Federal permit. This exemption will allow the vessel to set survey traps in an area not designated on his permit. This permit holder would not be allowed to commercially fish and land lobsters for sale with traps in LMA 2.

Site selection would be based on a random, stratified sampling design, consistent with standardized methodology used to perform lobster surveys. All catch during dedicated research trips would be retained on-board for a short period of time to allow MA DMF staff to record the following information: The number of lobsters caught; the size (carapace length in mm) and sex of each lobster; the hardness of each lobster shell; and the presence/absence of lobster parts, shell damage, shell disease, and eggs in female lobsters.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: May 12, 2014.
Emily H. Menashes,
Acting Director, Office of Sustainable Fisheries, National Marine Fisheries Service.

[FR Doc. 2014-11192 Filed 5-15-14; 8:45 am]

BILLING CODE 3510-22-P